DEPARTMENT OF VETERANS AFFAIRS

[OMB Control No. 2900-0521]

Agency Information Collection Activities Under OMB Review

AGENCY: Veterans Benefits Administration, Department of Veterans Affairs.

ACTION: Notice.

SUMMARY: In compliance with the Paperwork Reduction Act (PRA) of 1995 (44 U.S.C. 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 24, 2001.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail: denise.mclamb@mail.va.gov. Please refer to “OMB Control No. 2900-0521.”

SUPPLEMENTARY INFORMATION: Title: Credit Underwriting Standards and Procedures for Processing VA Guaranteed Loans.

OMB Control Number: 2900-0521.

Type of Review: Reinstatement, without change, of a previously approved collection for which approval has expired.

Abstract: VA sets forth, in regulatory form, standards to be used by lenders in underwriting VA-guaranteed loans and to obtain credit information. Lenders must collect certain specific information concerning the veteran and the veteran's credit history (and spouse or other co-borrower, as applicable), in order to underwrite the veteran's loan. A loan may not be guaranteed unless the veteran is a satisfactory credit risk. VA requires the lender to provide the Department with the credit information to assure itself that applications for VA-guaranteed loans are underwritten in a reasonable and prudent manner.

An agency may not conduct or sponsor, and a person is not required to respond to a collection of information unless it displays a currently valid OMB control number. The Federal Register Notice with a 60-day comment period soliciting comments on this collection of information was published on August 31, 2000, at pages 53092-53093.

Affected Public: Individuals or households and business or other for-profit.

Estimated Annual Burden: 1 hour.

Estimated Average Burden Per Respondent: 45 minutes.

Frequency of Response: On occasion.

Estimated Number of Respondents: 300,000.

Send comments and recommendations concerning any aspect of the information collection to VA's Desk Officer, OMB Human Resources and Housing Branch, New Executive Office Building, Room 10235, Washington, DC 20503, (202) 395-7316. Please refer to “OMB Control No. 2900-0521” in any correspondence.

Dated: August 8, 2001.
By direction of the Secretary.
Donald L. Neilson,
Director, Information Management Service.

[FR Doc. 01-21502 Filed 8-23-01; 8:45 am]

BILLING CODE 8320-01-U